ENVIRONMENTAL PROTECTION AGENCY

[ER-FRL-6649-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-J65016-UT Rating EC2, Bear Hodges II Timber Sale Management Plan. Selective Timber Harvest of Spruce Stands With or Without Road Construction, Implementation, Wasatch National Forest (WCNF), Logan Ranger District, Cache and Rich Counties, UT.

Summary: EPA expressed environmental concerns with adverse impacts to soil and vegetation, the potential for impacts to aquatic resources, and need for more specific information on mitigation of these impacts.

ERP No. D-AFS-J65399-00 Rating EC2, High Mountains Heli-Skiing (HMH) Project, Issuance of a New 5-Year Special Use Permit (SUP) to Continue Operating Guided Helicopter Skiing in Portions of the Bridger-Teton National Forest and Caribou-Targhee National Forest (CTNF), Teton and Lincoln Counties, WY and Teton and Bonneville Counties, ID.

Summary: EPA expressed environmental concerns regarding impacts to wildlife and reduced likelihood that proposed wilderness areas would be designated as Wilderness. EPA requested additional information on refueling sites, avalanche control activities and winter range impacts.

ERP No. D-AFS-J65400-UT Rating EC2, East Fork Fire Salvage Project Timber Harvesting of Dead and Dying Trees, Implementation. Wasatch-Cache National Forest, Evanston Ranger District, Summit County, UT.

Summary: EPA expressed environmental concerns with soil erosion, soil disturbance and soil compaction; runoff and potential degradation of water quality and aquatic habitats; sedimentation of streams and water-storage reservoirs; fish and wildlife impacts to sensitive species; and the potential to establish and spread noxious weeds. EPA recommended the selected alternative restrict harvest to the lands accessible with existing roads to minimize impact to water quality.

ERP No. D-BLM-J65393-CO Rating LO, Colorado Canyons National Conservation Area and Black Ridge Canyons Wilderness Resource Management Plan, Implementation, Mesa County, CO.

Summary: EPA expressed lack of objections however, EPA suggest additional analysis of compliance with land health standards, increased use of the adaptive management to address recreational use and additional monitoring for water quality, erosion and levels of vegetative cover.

ERP No. D-BLM-L65440-OR Rating EC2, Upper Deschutes Resource Management Plan, Implementation, Deschutes, Klamath, Jefferson and Cook Counties, OR.

Summary: EPA expressed environmental concerns about ongoing water quality problems on streams in the planning area. EPA recommended that the final EIS include goals for the restoration of water quality through planned revision of grazing management, or other appropriate means.

ERP No. D-DOE-L02032-OR Rating EC2, COB Energy Facility, Construction of a 1,160-megawatt (MW) Natural Gas-Fired and Combined-Cycle Electric Generating Plant, Right-of-Way Grant across Federal Land under the Jurisdiction of BLM, Klamath Basin, Klamath County, OR.

Summary: EPA raised environmental concerns related to the lack of detailed evaluation of alternatives to the proposed site for the energy generation facility and the route of the proposed transmission line. EPA recommended that additional evaluation and discussion of alternatives to the proposed project be included in the final EIS.

ERP No. D-FHW-C40161-NY Rating EC2, NY-17 Parksville/SH-5223, Liberty-County Line, Part 1 Construction and Reconstruction to Interstate Standards, Funding and U.S. Army COE Section 404 Permit Issuance, Town of Liberty, Sullivan County, NY.

Summary: EPA expressed environmental concerns regarding indirect impacts to wetlands. EPA requested additional information on these impacts and on the proposed wetlands and water quality mitigation plan.

ERP No. D-FHW-J40161-UT Rating LO, I-15, 31st Street in Ogden to 2700 North in Farr West, Reconstruction, Widening and Interchange Improvements, Funding and U.S. Army COE Section 404 Permit, Weber County, UT.

Summary: While EPA has no objections to the proposed project, EPA did request clarification regarding the impacts to perrenial streams in the Weber River watershed as well as on the impacts to air quality.

ERP No. D-IBW-G39039-00 Rating LO, Rio Grande Canalization Project (RGCP), Long-Term River Management Alternatives Practices, Implementation, from below Percha Dam in Sierra County, NM to American Dam in El Paso, TX.

Summary: EPA had no objections to the proposed action.

ERP No. D-NOA-E90018-GA Rating LO, Gray's Reef National Marine Sanctuary Draft Management Plan (DMP), Address Current Resource Conditions and Compatible Multiple Uses, Located 17.5 Nautical miles off Sapelo Island, GA.

Summary: EPA supports the National Ocean Service Preferred Alternatives on anchoring prohibitions and fishing gear restrictions to rod, reel and handline to protect the resources in the Gray's Reef National Marine Sanctuary.

ERP No. D-NPS-C65004-NY Rating LO, Saratoga National Historical Park General Management Plan, Implementation, Hudson River Valley, Towns of Stillwater and Saratoga, Saratoga County, NY.

Summary: EPA has no objections to the proposed management plan.

ERP No. D-NRC-F06023-IL Rating EC2, Dresden Nuclear Power Station, Unit 2 and 3, Supplement 17, NUREG 1437, Renewal of a Nuclear Power Plan Operating License, Grundy County, IL.

Summary: EPA has environmental concerns regarding the information provided on the radiological impacts, cooling water system impacts on aquatic organisms, thermal impacts, risk estimates and on-site storage.

Final EISs

ERP No. F-COE-C39016-NJ Union Beach Community Project, Provision of Hurricane and Storm Damage Reduction to Residential, Commercial and Recreational Resources, Located along the Raritan Bay and Sandy Hook Bay Shoreline, Monmouth County, NJ.

Summary: EPA raised environmental concerns over the adequacy of the proposed wetlands mitigation plan and requested that appropriate information on mitigation be provided to EPA prior to the issuance of the Record of Decision (ROD). In addition, a Clean Air Act General Conformity Determination needs to be prepared prior to the issuance of the ROD.

Dated: March 9, 2004.
Ken Mittelholtz,
Environmental Protection Specialist, Office of Federal Activities.

[FR Doc. 04-5648 Filed 3-11-04; 8:45 am]

BILLING CODE 6560-50-M